DEPARTMENT OF HEALTH AND HUMAN SERVICES

Administration for Children and Families

Proposed Information Collection Activity; Comment Request

Proposed Projects:

Title: Annual Progress Report—University Centers for Excellence in Developmental Disabilities Education, Research, and Service.

OMB No: 0970-0289.

Description: Section 104 (42 USC 15004) of the Developmental Disabilities Assistance and Bill of Rights Act of 2000 (DD Act of 2000) directs the Secretary of Health and Human Services to develop and implement a system of program accountability to monitor the grantees funded under the DD Act of 2000. The program accountability system shall include the National Network of University Centers for Excellence in Developmental Disabilities Education, Research, and Service (UCEDDSs) authorized under Part D of the DD Act of 2000. In addition to the accountability system, Section 154 (e) (42 USC 15064) of the DD Act of 2000 includes requirements for a UCEDD Annual Report.

Respondents: University Centers for Excellence in Developmental Disabilities Educaiton, Research, and Service

Annual Burden Estimates
Instrument | Number of respondents | Numbero responses per respondent | Average burden hours per response | Total burden hours
UCEDD Annual Report Template | 67 | 1 | 200 | 13,400
Estimated Total Annual Burden Hours: |  |  |  | 13,400

In compliance with the requirements of Section 506(c)(2)(A) of the Paperwork Reduction Act of 1995, the Administration for Children and Families is soliciting public comment on the specific aspects of the infromation collection described above. Copies of the proposed collection of infromation can be obtained and comments may be forwared by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimze the burden of the collection of information on respondents, including through the use of automated collection techniques or other forms of information technology. Consideration will be given to comments and suggestions submitted within 60 days of this publication.

Dated: February 1, 2008.
Janean Chambers,
Reports Clearance Officer.

[FR Doc. 08-530 Filed 2-6-08; 8:45 am]

BILLING CODE 4184-01-M